DEPARTMENT OF TRANSPORTATION

National Highway Traffic Safety Administration

[U.S. DOT Docket No. NHTSA-2016-0038]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before June 20, 2016.

ADDRESSES: You may submit comments identified by DOT Docket ID Number NHTSA-2016-0038 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-(202) 493-2251.

Instructions: Each submission must include the Agency name and the Docket number for this Notice. Note that all comments received will be posted without change to http://www.regulations.gov including any personal information provided.

FOR FURTHER INFORMATION CONTACT: Amy Berning, Contracting Officer's Representative-Task Order, DOT/NHTSA (NTI-131), 1200 New Jersey Avenue SE., W46-497, Washington, DC 20590. Ms. Berning's phone number is (202) 366-5587 and her email address is amy.berning@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) The accuracy of the agency's estimate of the burden of the proposed collection of information, including the validity of the methodology and assumptions used; (iii) How to enhance the quality, utility, and clarity of the information to be collected; and (iv) How to minimize the burden of the collection of information on those who are to respond, including the use of appropriate automated, electronic, mechanical, or other technological collection techniques or other forms of information technology, e.g., permitting electronic submission of responses. In compliance with these requirements, NHTSA asks for public comment on the following proposed collection of information:

Crash Risk Associated With Drug and Alcohol Use by Drivers in Fatal and Serious Injury Crashes

Type of Request—New information collection requirement.

OMB Clearance Number—None.

Form Numbers—NHTSA-1350, NHTSA-1351, NHTSA-1352, NHTSA-1353, NHTSA-1354.

Requested Expiration Date of Approval—5 years from date of approval.

Summary of the Collection of Information—The National Highway Traffic Safety Administration (NHTSA) seeks to examine the relative crash risk associated with licit and illicit drug use by studying seriously or fatally injured drivers in crashes and matched non-crash-involved drivers. Participants will include seriously injured drivers who are treated in a trauma center or emergency department immediately after a crash. Participants will also include fatally injured drivers who die before or during treatment within the study catchment area. This study will employ a case-control design that matches two drivers not involved in a crash to every crash-involved driver. Control drivers will be selected at or near the location of the crash where a driver was seriously injured or killed. With the greatest accuracy possible, researchers will match control drivers based on crash day of the week, crash time of day, crash direction of travel, and as many other relevant factors as possible.

Data collection will include blood samples from both crash-involved and control drivers. Collection of samples from seriously injured drivers will be subject to State and Trauma Center policies regarding collection of fluid samples for research purposes. Samples from fatally injured drivers will be collected in accord with State, Trauma Center, and/or coroner/medical examiner policies. Researchers may temporarily and securely retain identifying information for seriously or fatally injured drivers to access needed medical or crash records to facilitate control driver matching on factors such as crash time, day, and location. Identifying information will be discarded once the needed data has been obtained and will not be linked to study results in any manner. Control driver participation in the study will be voluntary. No identifying information will be collected from control drivers. Control drivers will also be asked to provide a breath sample to measure breath alcohol concentration.

Self-report surveys will be administered to injured participants, when possible, to collect details about the crash, self-reported drug use, general driving behaviors, relevant lifestyle factors (e.g., fatigue at the time of the crash) and other information deemed important to the study. In the event a seriously injured driver is unconscious after treatment, researchers will return at a later date to collect the information if the driver is capable of consenting and responding. If not, willing next of kin will be substituted if possible. All participating control drivers will be asked to respond to the survey items, and their responses will be anonymous.

Description of the Need for the Information and Proposed Use of the Information—NHTSA's mission is to save lives, prevent injuries and reduce traffic-related health care and other economic costs. The agency develops, promotes and implements educational, engineering and enforcement programs with the goal of ending preventable tragedies and reducing economic costs associated with vehicle use and highway travel. In 2010 and 2011, NHTSA conducted the first large-scale carefully controlled study in the U.S. designed to estimate the relative crash risk associated with drug use by drivers. Using a case-control design, researchers collected information from crash-involved and non-crash involved drivers in Virginia Beach, Virginia. That effort focused on acquiring data at crash sites and resulted in very few seriously or fatally injured drivers entering the sample. As such, it was not possible to assess how drug use was related to driver injuries in the most serious of crashes. Other studies have examined the prevalence of drugs in seriously and fatally injured drivers, but none has used a case-control design such as the one proposed in the current study that will allow for an estimation of risk associated with drug use by drivers seriously injured or killed in a motor vehicle crash. Using the case-control approach in this manner will complete the relative risk assessment for the full range of injury severities using comparable methodologies.

The large sample of seriously and fatally injured drivers gathered by this project using a case-control methodology will lead to a better understanding of the relative crash risk of drug involved driving. The results of this project will assist NHTSA in determining how different drug classes are related to driver safety which will help the Agency provide guidance to the States and Federal Government as each considers policies related to drugged driving.

Description of the Likely Respondents (Including Estimated Number, and Proposed Frequency of Response to the Collection of Information)—The participant groups being sought include 2,500 crash-involved drivers and at least 5,000 control drivers. Sampling will occur at one or more trauma centers and within the roadway catchment area served by the trauma center(s). Each participant will only respond to the data collection request a single time during the study period.

Estimate of the Total Annual Reporting and Record Keeping Burden Resulting from the Collection of Information—Responding to the entire information request will take approximately 20 minutes per participant. The project anticipates collecting data from 3,750 participants per year. As such, the annual estimated burden hours total is 1,250. There are no record keeping costs to the respondents. Thus, there is no preparation of data required or expected of respondents. Participants do not incur: (a) Capital and start-up costs, or (b) operation, maintenance, and purchase costs as a result of participating in the study.

Authority: 44 U.S.C. Section 3506(c)(2)(A).

Issued in Washington, DC, on April 18, 2016.
Jeff Michael,
Associate Administrator, Research and Program Development.

[FR Doc. 2016-09257 Filed 4-20-16; 8:45 am]

BILLING CODE 4910-59-P